DEPARTMENT OF EDUCATION

Applications for New Awards; Basic Needs for Postsecondary Students Program

AGENCY: Office of Postsecondary Education, Department of Education.

ACTION: Notice.

SUMMARY: The Department of Education (Department) is issuing a notice inviting applications (NIA) for new awards for fiscal year (FY) 2021 for the Basic Needs for Postsecondary Students Program, Assistance Listing Number 84.116N. This notice relates to the approved information collection under OMB control number 1894-0006.

DATES:

Applications Available: November 5, 2021.

Deadline for Transmittal of Applications: December 6, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Njeri Clark, U.S. Department of Education, 400 Maryland Avenue SW, Room 2B168, Washington, DC 20202-4260. Telephone: (202) 453-6224. Email: Njeri.Clark@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Basic Needs for Postsecondary Students Program provides grants to eligible institutions of higher education (IHEs) to support programs that address the basic needs of students and to report on practices that improve outcomes for students.

Background: The Basic Needs for Postsecondary Students Program supports IHEs that demonstrate a commitment to developing or enhancing programs that support the basic needs of students. There is growing evidence that food and housing insecurities compromise the well-being of thousands of undergraduate students across the country, which may reduce the odds that they will complete their degrees or certificates. A recent study of more than 33,000 community college students found that one-third had the lowest levels of food security and could be considered hungry, while just over 50 percent were housing insecure. Fourteen percent of those students surveyed were homeless.¹

¹ Goldrick-Rab, S., Broton, K., & Eisenberg, D. (2015). Hungry to Learn: Addressing Food & Housing Insecurity among Undergraduates. Wisconsin HOPE Lab. Retrieved from http://wihopelab.com/publications/Wisconsin_HOPE_Lab_Hungry_To_Learn.pdf. Goldrick-Rab, S., Richardson, J., & Hernandez, A. (2017). Hungry and Homeless in College: Results from a National Study of Basic Needs Insecurity in Higher Education. Wisconsin HOPE Lab. Retrieved from http://wihopelab.com/publications/hungry-and-homeless-in-college-report.pdf

Similarly, the Government Accountability Office analyzed dozens of studies and found rates of food insecurity among college students were typically reported at more than 30 percent.² Studies show that if a student has not eaten sufficient nutritious food or slept the night before a class or exam, they will have greater difficulty mastering the material and performing well.³

² Government Accountability Office. (2018). Food Insecurity: Better Information Could Help Eligible College Students Access Federal Food Assistance Benefits. Retrieved from https://www.gao.gov/assets/gao-19-95.pdf.

³ Maroto, M.E., Snelling, A., & Linck, H. (2015). Food Insecurity Among Community College Students: Prevalence and Association with Grade Point Average. Community College Journal of Research and Practice, 39(6), 515-526. Hershner, S.D., & Chervin, R.D. (2014). Causes and Consequences of Sleepiness Among College Students. Nature and Science of Sleep, 6, 73-84.

According to the Hope Center for College, Community and Justice's most recent basic needs survey, students of color were more likely to experience basic needs insecurity than their White peers. For students at both two- and four-year institutions, 75 percent of Indigenous students, 70 percent of Black students, and 64 percent of Hispanic or Latino students experienced basic needs insecurity, compared with 54 percent of White students.⁴

⁴ hope4college.com/wp-content/uploads/2020/02/2019_RealCollege_Survey_Report.pdf.

Supporting students' basic needs has many benefits for colleges and universities, including boosting academic performance, promoting retention and degree completion, reducing the barriers that returning adults face, and creating bridges between the institution and community organizations.⁵ In light of this and the other important issues described above, this competition is designed to promote student success by supporting programs that address the basic needs of students and report on those practices that improve student outcomes. In addition to the absolute priority we have established to address these issues, we are establishing a competitive preference priority to promote comprehensive services to students. This competitive preference priority furthers the goals of the program by supporting projects that meet the needs of the whole student.

⁵ hope4college.com/wp-content/uploads/2020/02/2019_RealCollege_Survey_Report.pdf.

Priorities: This notice contains one absolute priority and one competitive preference priority.

We are establishing these priorities for the FY 2021 grant competition and any subsequent year in which we make awards from the list of unfunded applications from this competition in accordance with section 437(d)(1) of the General Education Provisions Act (GEPA), 20 U.S.C. 1232(d)(1).

Absolute Priority: This priority is an absolute priority. Under 34 CFR 75.105(c)(3), we consider only applications that meet this priority.

This priority is:

Strengthening Cross-Agency Coordination and Community Engagement to Advance Systemic Change.

Projects that are designed to take a systemic approach to improving outcomes for underserved students through coordinating efforts with Federal, State, or local agencies, or community-based organizations that support students, to address two or more of the following basic needs:

(1) Food assistance.

(2) Housing.

(3) Transportation.

(4) Health, including access to mental health support.

(5) Childcare.

(6) Dependent care.

(7) Technology.

Competitive Preference Priority: This priority is a competitive preference priority. Under 34 CFR 75.105(c)(2)(i), we award up to an additional five points to an application, depending on how well the application meets this priority.

This priority is:

Meeting Student Social, Emotional, and Academic Needs. (up to 5 points)

Projects that are designed to support students' social, emotional, and academic needs with a focus on underserved students.

Definitions: We are establishing definitions for “community college,” “Historically Black colleges and universities,” “Minority-Serving Institution,” “Tribal Colleges or Universities,” and “underserved student” for the FY 2021 grant competition and any subsequent year in which we make awards from the list of unfunded applications from this competition, in accordance with section 437(d)(1) of GEPA. We have defined “community college” to ensure that we capture applicable institutions of higher education that offer both associate and bachelor's degrees. We are establishing the definition of “underserved student” to target the populations we believe are most in need of the services intended to be provided under this program. The remaining definitions are from 34 CFR 77.1.

Community college means an institution that meets the definition in section 312(f) of the Higher Education Act of 1965, as amended (HEA) (20 U.S.C. 1058(f)); or an IHE (as defined in section 101 of the HEA) that awards degrees and certificates, more than 50 percent of which are not bachelor's degrees (or an equivalent) or master's, professional, or other advanced degrees.

Demonstrates a rationale means a key project component included in the project's logic model is informed by research or evaluation findings that suggest the project component is likely to improve relevant outcomes.

Department means the U.S. Department of Education.

Fiscal year means the Federal fiscal year—a period beginning on October 1 and ending on the following September 30.

Grantee means the legal entity to which a grant is awarded and that is accountable to the Federal Government for the use of the funds provided. The grantee is the entire legal entity even if only a particular component of the entity is designated in the grant award notice (GAN). For example, a GAN may name as the grantee one school or campus of a college or university. In this case, the granting agency usually intends, or actually intends, that the named component assume primary or sole responsibility for administering the grant-assisted project or program. Nevertheless, the naming of a component of a legal entity as the grantee in a grant award document shall not be construed as relieving the whole legal entity from accountability to the Federal Government for the use of the funds provided. (This definition is not intended to affect the eligibility provision of grant programs in which eligibility is limited to organizations that may be only components of a legal entity.) The term “grantee” does not include any secondary recipients, such as subgrantees and contractors, that may receive funds from a grantee pursuant to a subgrant or contract.

Historically Black colleges and universities means colleges and universities that meet the criteria set out in 34 CFR 608.2.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Pacific Education Laboratory's Logic Model Application (www.ies.ed.gov/ncee/edlabs/regions/pacific/elm.asp).

Minority-Serving Institution means an institution that is eligible to receive assistance under sections 316 through 320 of part A of title III, under part B of title III, or under title V of the HEA.

Performance measure means any quantitative indicator, statistic, or metric used to gauge program or project performance.

Project component means an activity, strategy, intervention, process, product, practice, or policy included in a project. Evidence may pertain to an individual project component or to a combination of project components (e.g., training teachers on instructional practices for English learners and follow-on coaching for these teachers).

Relevant outcome means the student outcome(s) or other outcomes(s) the key project component is designed to improve, consistent with the specific goals of the program.

Tribal Colleges or Universities has the meaning ascribed it in section 316(b)(3) of the HEA.

Underserved student means a student who is enrolled in postsecondary education and is a member of one or more of the following subgroups:

(a) A student who is living in poverty.

(b) A student of color.

(c) A student who is a member of a federally recognized Indian Tribe.

(d) A student with a disability.

(e) A student experiencing homelessness or housing insecurity.

(f) A pregnant, parenting, or caregiving student.

(g) A lesbian, gay, bisexual, transgender, queer, or intersex (LGBTQ+) student.

(h) A student who is the first in their family to attend postsecondary education.

(i) A student enrolling in or seeking to enroll in postsecondary education for the first time at the age of 20 or older.

(j) A student who is enrolled in or is seeking to enroll in postsecondary education who is eligible for a Pell Grant.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. In order to ensure timely grant awards, the Secretary has decided to forgo public comment on the priorities, requirements, and definitions under section 437(d)(1) of GEPA. These priorities, requirements, and definitions will apply to the FY 2021 grant competition and any subsequent year in which we make awards from the list of unfunded applications from this competition.

Program Authority: 20 U.S.C. 1138-1138d; Departments of Labor, Health and Human Services, and Education and Related Agencies Appropriations Act, 2021, H.R. 7614, 116th Congress (2020); the explanatory statement accompanying H.R. 133 (Pub. L. 116-260).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $4,950,000.

Contingent upon the availability of funds and the quality of applications, we may make additional awards in subsequent fiscal years from the list of unfunded applications from this competition.

Estimated Range of Awards: $750,000 to $990,000 over 36 months.

Estimated Average Size of Award: $865,000.

Maximum Award: We will not make an award exceeding $990,000 for a single budget period of 36 months.

Estimated Number of Awards: 5.

Note: The Department is not bound by any estimates in this notice.

Project Period: Up to 36 months.

III. Eligibility Information

1. Eligible Applicants: Community Colleges (as defined in this notice) that are Minority-Serving Institutions (as defined in this notice), Historically Black colleges and universities (as defined in this notice), or Tribal Colleges or Universities (as defined in this notice).

Note: The notice announcing the FY 2021 process for designation of eligible institutions, and inviting applications for waiver of eligibility requirements, was published in the Federal Register on March 4, 2021 (86 FR 12665). The Department extended the deadline for applications in a notice published in the Federal Register on April 13, 2021 (86 FR 19231). Only institutions that the Department determines are eligible, or which are granted a waiver under the process described in the March 4, 2021, notice, and that meet the other eligibility requirements described in this notice, may apply for a grant under this program.

2. a. Cost Sharing or Matching: This competition does not require cost sharing or matching.

b. Indirect Cost Rate Information: This program limits a grantee's indirect cost reimbursement to eight percent of a modified total direct cost base. We are establishing this indirect cost limit for the FY 2021 grant competition and any subsequent year in which we make awards from the list of unfunded applications from this competition in accordance with section 437(d)(1) of GEPA. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Submission of Proprietary Information: Given the types of projects that may be proposed in applications for the Basic Needs for Postsecondary Students Program, your application may include business information that you consider proprietary. In 34 CFR 5.11 we define “business information” and describe the process we use in determining whether any of that information is proprietary and, thus, protected from disclosure under Exemption 4 of the Freedom of Information Act (5 U.S.C. 552, as amended).

An applicant may wish to request confidentiality of business information because successful applications may be made available to the public, if requested.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make awards in a timely manner.

4. Funding Restrictions: We reference additional regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1” margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit applies to the Project Narrative, which is your complete response to the selection criteria, and any response to the competitive preference priorities, if applicable. However, the recommended page limit does not apply to the Application for Federal Assistance form (SF-424); the ED SF-424 Supplement form; the Budget Information—Non-Construction Programs form (ED 524); the assurances and certifications; or the one-page project abstract and supporting budget narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. An applicant may earn up to a total of 100 points based on the selection criteria and up to five additional points under the competitive preference priority, for a total score of up to 105 points. The selection criteria are as follows:

a. Need for the project. (Maximum 20 Points)

The Secretary considers the need for the proposed project.

In determining the need for the proposed project, the Secretary considers the following factors:

i. The magnitude of the need for the services to be provided or the activities to be carried out by the proposed project. (Up to 10 points)

ii. The extent to which specific gaps or weaknesses in services, infrastructure, or opportunities have been identified and will be addressed by the proposed project, including the nature and magnitude of those gaps or weaknesses. (Up to 10 points)

b. Quality of the project design. (Maximum 35 Points)

The Secretary considers the quality of the design of the proposed project. In determining the quality of the design of the proposed project, the Secretary considers the following factors:

i. The extent to which the proposed project will integrate with or build on similar or related efforts to improve relevant outcomes (as defined in this notice), using existing funding streams from other programs or policies supported by community, State, and Federal resources. (Up to 10 points)

ii. The extent to which the proposed project will establish linkages with other appropriate agencies and organizations providing services to the target population. (Up to 10 points)

iii. The extent to which the proposed project demonstrates a rationale (as defined in this notice). (Up to 5 points)

iv. The extent to which the design of the proposed project is appropriate to, and will successfully address, the needs of the target population or other identified needs. (Up to 10 points)

c. Quality of project services. (Maximum 25 Points)

The Secretary considers the quality of the services to be provided by the proposed project.

i. In determining the quality of the services to be provided by the proposed project, the Secretary considers the quality and sufficiency of strategies for ensuring equal access and treatment for eligible project participants who are members of groups that have traditionally been underrepresented based on race, color, national origin, gender, age, or disability. (Up to 5 points)

In addition, the Secretary considers the following factors:

ii. The likely impact of the services to be provided by the proposed project on the intended recipients of those

services. (Up to 10 points)

iii. The extent to which the services to be provided by the proposed project involve the collaboration of appropriate partners for maximizing the effectiveness of project services. (Up to 10 points)

d. Quality of the management plan. (Maximum 10 Points)

The Secretary considers the quality of the management plan for the proposed project. In determining the quality of the management plan for the proposed project, the Secretary considers the adequacy of the management plan to achieve the objectives of the proposed project on time and within budget, including clearly defined responsibilities, timelines, and milestones for accomplishing project tasks.

e. Quality of the project evaluation. (Maximum 10 Points)

The Secretary considers the quality of the evaluation to be conducted of the proposed project. In determining the quality of the evaluation, the Secretary considers the following factors:

i. The extent to which the methods of evaluation are thorough, feasible, and appropriate to the goals, objectives, and outcomes of the proposed project. (Up to 5 points)

ii. The extent to which the methods of evaluation include the use of objective performance measures that are clearly related to the intended outcomes of the project and will produce quantitative and qualitative data to the extent possible. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of two to three non-Federal reviewers will review and score each application in accordance with the selection criteria in this notice, as well as the competitive preference priorities. A rank order funding slate will be made from this review. Awards will be made in rank order according to the average score received from the peer review.

Tiebreaker: If there is more than one application with the same score and insufficient funds to fund all the applications with the same ranking, the first tiebreaker will be to select the applicant with the highest average score under Quality of Project Services. If a second tiebreaker is required, we will select the applicant with the highest average score under Quality of the Project Design. If a third tiebreaker is required, we will select the applicant with the highest average score under Need for the Project. If the tie persists, the application with the highest percentage of students who are Pell grant recipients will be funded.

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a GAN; or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For purposes of evaluating the success of the Basic Needs for Postsecondary Students Program under the Government Performance and Results Act of 1993 and Department reporting under 34 CFR 75.110, the Department will use the following performance measures:

(1) The number of underserved students served by any direct student service supported by the grant.

(2) The annual persistence rate at grantee institutions for all students who are served by any direct student service supported by the grant.

(3) The annual rate of degree or certificate completion at grantee institutions for all students served by any direct student service supported by the grant.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-24362 Filed 11-4-21; 8:45 am]

BILLING CODE 4000-01-P